DEPARTMENT OF DEFENSE

Office of the Secretary

[Docket ID: DoD-2023-HA-0112; Req No. OS-2024-00037-FR]

Proposed Collection; Comment Request

AGENCY: The Office of the Assistant Secretary of Defense for Health Affairs (OASD(HA)), Department of Defense (DoD).

ACTION: 60-Day information collection notice.

SUMMARY: In compliance with the Paperwork Reduction Act of 1995, the Defense Health Agency (DHA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 16, 2024.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to DHA, 7700 Arlington Blvd., Falls Church, VA 22042, Amanda Grifka, 703-681-1771.

SUPPLEMENTARY INFORMATION:

Title; Associated Form; and OMB Number: Challenges of Military Couples Experiencing Breast Cancer; OMB Control Number: 0720-CEBC.

Needs and Uses: This information collection is needed to conduct a needs assessment study which will identify challenges of military couples and their experiences with breast cancer. An online survey was developed to evaluate marital satisfaction and intimacy to determine what interventions may be helpful in the future. The survey includes the Couples Satisfaction Index Scale-4, which has reported reliability and validity. The long-term aim of this study is to determine what types of support may be provided to increase marital satisfaction while maintaining healthy relationships during the breast cancer experience for military families. Further, the aim would be that making effective support available to couples experiencing breast cancer would improve prognosis and optimize overall health for the patient and the partner. The respondent population will be from Brooke Army Medical Center who are at various stages of breast cancer treatment but diagnosed within the last five years.

Affected Public: Individuals and households.

Annual Burden Hours: 20.

Number of Respondents: 60.

Responses per Respondent: 1.

Annual Responses: 60.

Average Burden per Response: 20 minutes.

Frequency: On occasion.

Dated: November 7, 2023.
Aaron T. Siegel,
Alternate OSD Federal Register Liaison Officer, Department of Defense.

[FR Doc. 2023-25119 Filed 11-14-23; 8:45 am]

BILLING CODE 6001-FR-P